DEPARTMENT OF LABOR

Employment and Training Administration

[TA-W-39,903]

New Holland North America, Inc. Belleville, PA; Notice of Termination of Investigation

Pursuant to section 221 of the Trade Act of 1974, an investigation was initiated on August 27, 2001, in response to a petition filed by a company official on behalf of workers at New Holland North America, Inc., Belleville Pennsylvania.

The company official submitting the petition has requested that the petition be withdrawn. Consequently, further investigation in this case would serve no purpose, and the investigation has been terminated.

Signed in Washington, DC, this 15th day of October, 2001.
Linda G. Poole,
Certifying Officer, Division of Trade Adjustment Assistance.

[FR Doc. 01-27235 Filed 10-29-01; 8:45 am]

BILLING CODE 4510-30-M